DEPARTMENT OF HOMELAND SECURITY

Bureau of Customs and Border Protection

[USCBP-2006-0060]

Airport and Seaport Inspections User Fee Advisory Committee

AGENCY: Customs and Border Protection, Department of Homeland Security.

ACTION: Notice of meeting.

SUMMARY: The Customs and Border Protection (“CBP”) Airport and Seaport Inspections User Fee Advisory Committee (“Advisory Committee”) will meet in open session.

DATES: Tuesday, August 22, 2006, 1 p.m. to 4 p.m.

ADDRESSES: The meeting will be held at Conference Room B 1.5-10, Ronald Reagan Building, 1300 Pennsylvania Avenue, NW., Washington, DC.

If you desire to submit comments, they must be submitted by August 8, 2006. Comments must be identified by USCBP-2006-0060 and may be submitted by one of the following methods:

• Federal eRulemaking Portal: http://www.regulations.gov. Follow the instructions for submitting comments.

• E-mail: Roberto.M.Williams@dhs.gov. Include docket number in the subject line of the message.

• Mail: Mr. Roberto Williams, Cost Management Division, 1300 Pennsylvania Avenue, NW., Suite 4.5A, Customs and Border Protection, Department of Homeland Security, Washington, DC 20229.

• Facsimile: 202-344-1818.

Instructions: All submissions received must include the words “Department of Homeland Security” and the docket number for this action. Comments received will be posted without alteration at http://www.regulations.gov, including any personal information provided.

Docket: For access to the docket to read background documents or comments received by the CBP Advisory Committee, go to http://www.regulations.gov.

FOR FURTHER INFORMATION CONTACT: Mr. Roberto Williams, Cost Management Division, 1300 Pennsylvania Avenue, NW., Suite 4.5A, Customs and Border Protection, Department of Homeland Security, Washington, DC 20229, telephone 202-344-1101; facsimile, 202-344-1818; e-mail: Roberto.M.Williams@dhs.gov.

SUPPLEMENTARY INFORMATION: The fourth meeting of the CBP Advisory Committee will be held at the date, time and location specified above. This notice also announces the expected agenda for the meeting (see below).

The Advisory Committee was established pursuant to section 286(k) of the Immigration and Nationality Act (INA), codified at title 8 U.S.C. 1356(k), which references the Federal Advisory Committee Act (5 U.S.C. App. 1 et seq.). With the merger of the Immigration and Naturalization Service into the Department of Homeland Security, the Advisory Committee's responsibilities were transferred from the Attorney General to the Commissioner of CBP pursuant to section 1512(d) of the Homeland Security Act of 2002.

The Advisory Committee held its first meeting under the direction of CBP on October 22, 2003 (see 68 FR 56301, September 30, 2003). Among other things, the committee is tasked with advising the CBP Commissioner on issues related to CBP inspection services. This advice includes, but is not limited to, the level and the appropriateness of the following fees assessed for CBP services: the immigration user fee pursuant to 8 U.S.C. 1356(d), the customs inspection user fee pursuant to 19 U.S.C. 58c(a)(5), and the agriculture inspection user fee pursuant to 21 U.S.C 136a.

This meeting is open to the public. Public participation in the deliberations is welcome; however, please note that matters outside of the scope of this committee will not be discussed.

Since seating is limited, all persons attending this meeting must provide notice, preferably by close of business Tuesday, August 8, 2006, to Mr. Roberto Williams, Cost Management Division, 1300 Pennsylvania Avenue, NW., Suite 4.5A, Customs and Border Protection, Department of Homeland Security, Washington, DC 20229, telephone 202-344-1101; facsimile 202-344-1818.

For information on facilities or services for individuals with disabilities or to request special assistance at the meeting, contact Mr. Roberto Williams as soon as possible.

Draft Agenda

1. Introduction of Committee members and CBP Personnel.

2. Discussion of activities since last meeting held on November 30, 2005.

3. Discussion of operational initiatives and programs.

4. Discussion of workload issues and traffic trends.

5. Discussion of funding levels.

6. Discussion of user fee initiatives.

7. Discussion of specific concerns and questions of Committee members.

8. Discussion of relevant written statements submitted in advance by members of the public.

9. Discussion of Committee administrative issues and scheduling of next meeting.

10. Adjourn.

Dated: July 5, 2006.
Richard L. Balaban,
Assistant Commissioner, Office of Finance, Customs and Border Protection.

[FR Doc. E6-10751 Filed 7-7-06; 8:45 am]

BILLING CODE 9111-14-P